DEPARTMENT OF JUSTICE

National Institute of Corrections

Solicitation for a Cooperative Agreement—Community Restorative Justice Outcomes/Measurements and Evaluation

AGENCY: U.S. Department of Justice, National Institute of Corrections.

ACTION: Solicitation for a Cooperative Agreement—Community Restorative Justice Outcomes/Measurements and Evaluation.

SUMMARY: The Department of Justice (DOJ), National Institute of Corrections (NIC) announces the availability of funds in FY 2000 for a cooperative agreement to establish and develop “community restorative justice” performance outcome, measurement and evaluation protocols. This solicitation if for phase I and II of a “three-phase” project.

Background/Purpose: Restorative Justice has emerged as a critical issue for the future of Criminal Justice Systems. Because it is new it requires a unique set of skills, competencies and perspectives from corrections agencies and other justice professionals. Victims and citizens have become increasingly frustrated with the justice system with a belief that the justice system does not represent their interest and does not provide them any value in terms of enhanced public safety, quality of life in communities, and a legitimate voice and role in the justice process. Restorative and community oriented practices show promise for being more responsive to victims and communities, and holding offenders accountable for understanding the harmful impact of their behavior, and for repairing the harm that they have caused. Many activities and efforts have taken place over the past four years to assist agencies in developing and implementing systems, protocols and practices related to Restorative Justice. Likewise, the effectiveness and evaluation of these new systems and programs has come into question and has become a central issue among professionals and criminal justice agencies. In some instances, restorative justice programs have been evaluated against traditional measures that focus exclusively on offender recidivism. Proponents argue that restorative justice is a radically different paradigm and so too needs to be our measures and methods of evaluating restorative justice. It is also argued that restorative justice is more than just a certain program (mediation, conferencing, boards, restitution, etc.), rather it is an operating framework driven and grounded by different values and principles. It requires us to look beyond offender focused measures and adopt measures that account not only for impact on offenders, but also on victim health and satisfaction, community safety and vitality, community problem-solving capacity and other variables grounded in these new set of principles and values. By identifying a host of new, or non-traditional evaluation measures to evaluate restorative justice initiatives, agencies will be able to evaluate the relative effectiveness of restorative justices initiatives, and defend and make informed decisions on the purpose and use of such initiatives and programs. Additionally, the project will assist criminal justice agencies in evaluating the effective design and implementation of restorative justice programs.

Project Goal and Objectives: The goal of this project is to provide criminal justice agencies the capability to evaluate the design, implementation, and impact of programs and initiatives being conducted under auspices of community and restorative justice.

The objective of this project are to:

1. Identify outcome and impact measures to evaluate the effectiveness of restorative justice programs and initiatives.

2. Identify process measures to guide and evaluate the implementation of restorative justice programs.

3. Develop an evaluation methodology for the collection and analysis of restorative justice data.

4. Design and create a tool(s) and protocols incorporating restorative measures that agencies can use to evaluate the both the process (implementation) and the outcome/impact of restorative justice programs.

5. Produce a document for wide dissemination in the criminal justice field on restorative justice measures and evaluation using the results from the first four objectives.

6. Develop and deliver a pilot training curriculum for correctional practitioners on the use restorative justice evaluation measures, tools and protocols.

Scope of Work Deliverables

Phase I: The desired outcome and product for Phase I is “the identification of specific process, outcome and impact measures for evaluating restorative justice programs and initiatives.” Intended work activities include assembly of a focus/work group to participate in the identification of restorative measures.

Phase II: The desired outcome and deliverables for Phase II is the “actual design and development of an evaluation tool/instrument and protocol, the pilot application and revision of the tool at two jurisdictional sites, and the development of a document for broad public dissemination containing the results from phase I and II activities.” The process tool should take the form of an inventory (or checklist) consisting of measurable items that can provide direction and feedback on the extent to which programs and initiatives are more or less restorative in their design and implementation. The site used in a pilot application of the evaluation design must be inclusive of a publicly funded correctional agency as a primary administrator of the program or initiative being evaluated, and shall be subject to consideration and approved by the NIC project coordinator. The document should provide correctional and other criminal justice professionals a theoretical and conceptual framework, a practical and empirical methodology, and a practical set of tools and protocols for both a process and impact evaluation of restorative justice programs and initiatives. This document shall provide a basis for Phase III of the project, a training curriculum development and pilot delivery in restorative justice evaluation techniques. It is the intent that based on satisfactory completion of Phase I and II products and outcomes, the approval of a cooperative agreement proposal for phase III (development and delivery of a training curriculum) and the availability of funds, an award will be made to the successful applicant from this solicitation for the third phase of the project.

Authority: Public Law 93-415.

Funds Available: The award will be limited to a maximum total of $41,000 ($17,000 for Phase I and $24,000 for Phase II, and includes direct and indirect costs). Project activity for both phases must be completed within 8 months of the date of award. Funds may not be used for construction, or to acquire or build real property. This project will be a collaborative venture with the NIC Academy Division. All products from this funding effort will be in the public domain and available to interested agencies through the National Institute of Corrections.

Eligibility To Apply: An eligible applicant is any state or general unit of local government, public or private agency, educational institution, organization, or individual with the requisite skills to successfully meet the outcome objectives of the project.

Deadline for Receipt of Applications: Applications must be received by 4:00 p.m. Eastern time on Thursday, March 30, 2000. They should be addressed to: Director, National Institute of Corrections, 320 First Street, NW, Room 5007, Washington, DC 20534. Hand delivered applications should be brought to 500 First Street, NW, Washington, DC 20534. The front desk will call Bobbi Tinsley at (202) 307-3106, extension 0 for pickup.

Addresses and Further Information: Requests for the application kit should be directed to Judy Evens, Cooperative Agreement Control Office, National Institute of Corrections, 320 First Street, NW, Room 5007, Washington, DC 20534 or by calling 800-995-6423, ext. 159, 202-307-3106, ext. 159, or email: jevens@bop.gov. A copy of this announcement and application forms may also be obtained through the NIC web site: http://www.nicic.org (click on “What's New” and “Cooperative Agreements”). All technical and/or programmatic questions concerning this announcement should be directed to Mike Dooley at the NIC Academy, 1960 Industrial Circle, Longmont, CO 80501, or by calling 800-995-6429 or 303-682-0382, ext. 132, or by E-mail via mdooley@bop.gov.

Review Considerations: Applications received under this announcement will be subjected to an NIC 3 to 5 member Peer Review Process.

Number of Awards: One (1).

NIC Application Number: 00A14 This number should appear as a reference line in your cover letter and also in box 11 of Standard Form 424.

Executive Order 12372: This program is not subject to the provisions of Executive Order 12372.

Catalog of Federal Domestic Assistance Number: 16.602.

Dated: January 31, 2000.
Morris L. Thigpen,
Director, National Institute of Corrections.

[FR Doc. 00-2891 Filed 2-8-00; 8:45 am]

BILLING CODE 4410-36-M